NATIONAL SCIENCE FOUNDATION

Agency Information Collection Activities: Comment Request

ACTION: Notice.

SUMMARY: Under the Paperwork Reduction Act of 1995, Public Law 104-13 (44 USC U.S.C. 3506(c)(2)(A)), and as part of its continuing effort to reduce paperwork and respondent burden, the National Science Foundation invites the general public and other Federal agencies to take this opportunity to comment on this information collection.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology. Comments submitted in response to this notice will be summarized and/or included in the request for OMB approval of this information collection; they also will become a matter of public record.

DATES: Written comments should be received by December 27, 2010 to be assured of consideration. Comments received after that date will be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov.

For Additional Information or Comments: Contact Suzanne Plimpton, the NSF Reports Clearance Officer, phone (703) 292-7556, or send e-mail to splimpto@nsf.gov. Individuals who use a telecommunications device for the deaf (TDD) may call the Federal Information Relay Service (FIRS) at 1-800-877-8339, which is accessible 24 hours a day, 7 days a week, 365 days a year (including Federal holidays).

SUPPLEMENTARY INFORMATION: Title: Experimental Program to Stimulate Competitive Research (EPSCoR) Outcomes Survey.

OMB Approval Number: 3145-NEW.

Expiration Date of Approval: Not applicable.

Abstract

The National Science Foundation (NSF) Act of 1950 (Pub. L. 507-81st Congress, as amended) stated that “ * * * it shall be an objective of the Foundation to strengthen science and engineering research potential and education at all levels throughout the United States; and avoid undue concentration of such research and education, respectively.” This Congressional directive recognized the inherent value of a truly national scientific and engineering (S&E) research enterprise. Over time, however, the nation's S&E efforts became concentrated geographically, focusing primarily on a limited number of major research universities. The NSF's resources became concentrated to the point where in 1977, in response to congressional concerns; the National Science Board established a task force to examine the geographical distribution of NSF awards. The issue was discussed at the 195th meeting of the NSB. Approval was requested for initiation of a program designed to “stimulate competitive research in regions of the country that were less able to compete successfully for research funds.” In 1978 the NSB approved a resolution (NSB-78-12) establishing the Experimental Program to Stimulate Competitive Research (EPSCoR) and the general guidelines for its management.

The mission of EPSCoR is to assist the National Science Foundation in its statutory function “to strengthen research and education in science and engineering throughout the United States and to avoid undue concentration of such research and education.”

The EPSCoR goals are to: (1) Provide strategic programs and opportunities for EPSCoR participants that stimulate sustainable improvements in their R&D capacity and competitiveness; and (2) advance science and engineering capabilities in EPSCoR jurisdictions for discovery, innovation, and overall knowledge-based prosperity.

The EPSCoR objectives are to: (1) Catalyze key research themes and related activities within and among EPSCoR jurisdictions that empower knowledge generation, dissemination and application; (2) activate effective jurisdictional and regional collaborations among academic, government and private sector stakeholders that advance scientific research, promote innovation and provide multiple societal benefits; (3) broaden participation in science and engineering by institutions, organizations and people within and among EPSCoR jurisdictions; and (4) use EPSCoR for development, implementation and evaluation of future programmatic experiments that motivate positive change and progression.

Expected Respondents

The respondents will be current and former EPSCoR awardees based at academic; state and local governments; and non-profit organizations. Quantitative procedures will be fielded using web-based modes. Up to 200 EPSCoR awardees will be contacted to request their participation in the survey. As needed, each EPSCoR awardee will be contacted with reminders to complete the survey no more than twice during the survey's duration under this generic clearance. Technology will be heavily utilized to limit the burden on respondents.

Use of the Information

The purpose of this survey of EPSCoR awardees is to better understand outcomes of NSF EPSCoR-related investments. The data will be used internally to inform NSF as it considers future improvements to the EPSCoR program, and to gain a better understanding regarding the program's impact on associated research and education activities. Findings may be presented externally to Congress, the Office of Management and Budget (OMB), in technical papers at conferences, published in the proceedings of conferences, or in journals.

Burden on the Public

Number of Respondents: 200.

Number of Minutes per Response: 30.

Overall Burden Request (in hours): 100.

Dated: October 22, 2010.
Suzanne Plimpton,
Reports Clearance Officer, National Science Foundation.

[FR Doc. 2010-27206 Filed 10-26-10; 8:45 am]

BILLING CODE 7555-01-P